ENVIRONMENTAL PROTECTION AGENCY

[FRL-10000-17-OA]

Children's Health Protection Advisory Committee (CHPAC); Charter Renewal

AGENCY: Environmental Protection Agency (EPA).

ACTION: Notice; Re-establishment of Children's Health Protection Advisory Committee.

SUMMARY: The Environmental Protection Agency (EPA) is publishing this notice to announce that it is re-establishing the Children's Health Protection Advisory Committee (CHPAC).

FOR FURTHER INFORMATION CONTACT: Nica Louie, Designated Federal Officer (DFO), Office of Children's Health Protection, Environmental Protection Agency, 1200 Pennsylvania Avenue NW, (MC 1107A), Washington, DC 20460; telephone number: 202-564-7633; email address: louie.nica@epa.gov.

SUPPLEMENTARY INFORMATION: The CHPAC is being re-established in accordance with the Federal Advisory Committee Act (FACA) of 1972 (5 U.S.C., Appendix, as amended) and 41 CFR 102-3.50(d). CHPAC will provide policy advice, information and recommendations to assist EPA in the development of regulations, guidance and policies to address children's environmental health.

The major objectives will be to provide policy advice and recommendations on:

a. Policy issues associated with regulations, economics, and outreach/communications to address prevention of adverse health effects to children, and improve the breadth and depth of analyses related to these efforts;

b. Critical policy and technical issues relating to children's health.

EPA has determined that this federal advisory committee is in the public interest and will assist the EPA in performing its duties and responsibilities. Copies of the CHPAC's charter will be filed with the appropriate congressional committees and the Library of Congress.

The CHPAC expects to meet in person or by electronic means (e.g., telephone, videoconference, webcast, etc.) approximately two (2) times per year, or as needed and approved by the DFO. Meetings will be held in Washington, DC.

Membership: CHPAC will be composed of approximately eighteen to twenty-four (18-24) members who will generally serve as representatives of non-Federal interests. Nominations for membership will be solicited through the Federal Register and other sources. In selecting members, EPA will consider candidates representing a broad range of interests relating to children's health, including but not limited to, specific organizations, associations, or classes of individuals, Federal, State, local and Tribal governments, the regulated community, public interest groups, health care organizations and academic institutions. In selecting members, EPA will consider the differing perspectives and breadth of collective experience needed to address EPA's charge.

Dated: September 13, 2019.
Jeanne Briskin,
Director, Office of Children's Health Protection.

[FR Doc. 2019-20344 Filed 9-18-19; 8:45 am]

BILLING CODE 6560-50-P